ENVIRONMENTAL PROTECTION AGENCY

40 CFR Part 262

[EPA-HQ-RCRA-2001-0032; FRL-9321-7]

Hazardous Waste Manifest Printing Specifications Correction Rule

AGENCY: Environmental Protection Agency.

ACTION: Proposed rule.

SUMMARY: The Environmental Protection Agency (EPA) is proposing a minor change to the Resource Conservation and Recovery Act (RCRA) hazardous waste manifest regulations that affects those entities that print the hazardous waste manifest form in accordance with EPA's specifications. Specifically, this action proposes to amend the current printing specification regulation to indicate that red ink, as well as other distinct colors, or other methods to distinguish the copy distribution notations from the rest of the printed form and data entries are permissible. This proposed change would afford authorized manifest form printers greater flexibility in complying with the Federal hazardous waste manifest printing specifications.

DATES: Written comments must be received by July 22, 2011.

ADDRESSES: Submit your comments identified by Docket ID No. EPA-HQ-RCRA-2001-0032 by one of the following methods:

• http://www.regulations.gov: follow the on-line instructions for submitting comments.

• E-mail: RCRA docket@EPA.gov and groce.bryan@epa.gov or lashier.rich@epa.gov. Attention Docket ID No. EPA-HQ-RCRA-2001-0032.

• Fax: (202) 566-9744. Attention Docket ID No. EPA-HQ-RCRA-2001-0032.

• Mail: RCRA Docket (28221T), U.S. Environmental Protection Agency, 1200 Pennsylvania Avenue, NW., Washington, DC 20460. Attention Docket ID No. EPA-HQ-RCRA-2001-0032. Please include a total of two copies of your comments.

• Hand Delivery: Please deliver two copies to the EPA Docket Center, EPA West Building, Room 3334, 1301 Connecticut Ave., NW., Washington, DC. Such deliveries are only accepted during the Docket's normal hours of operation, and special arrangements should be made for deliveries of boxed information.

Instructions: Direct your comments to Docket ID No. EPA-HQ-RCRA-2001-0032. EPA's policy is that all comments received will be included in the public docket without change and be made available online at http://www.regulations.gov, including any personal information provided, unless the comment includes information claimed to be Confidential Business Information (CBI) or other information whose disclosure is restricted by statute. Do not submit information that you consider to be CBI or otherwise protected through http://www.regulations.gov or e-mail. The http://www.regulations.gov Web site is an “anonymous access” system, which means EPA will not know your identity or contact information unless you provide it in the body of your comment. If you send an e-mail comment directly to EPA without going through http://www.regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket, visit the EPA Docket Center homepage at http://www.epa.gov/epahome/dockets.htm.

Docket: All documents in the docket are within the http://www.regulations.gov index. Although listed in the index, some information is not publicly available, e.g., CBI or other information whose disclosure is restricted by statute. Certain other material, such as copyrighted material, will be publicly available only in hard copy. Publicly available docket materials are available either electronically in http://www.regulations.gov or in hard copy at the HQ-Docket Center, Docket ID No. EPA-HQ-RCRA-2001-0032, EPA West Building, Room 3334, 1301 Constitution Ave., NW., Washington, DC. The Public Reading Room is open from 8:30 a.m. to 4:30 p.m., Monday through Friday, excluding legal holidays. The telephone number for the Public Reading Room is (202) 566-1744, and the telephone number for the RCRA Docket is (202) 566-0270. A reasonable fee may be charged for copying docket materials.

FOR FURTHER INFORMATION CONTACT: For more information on this rulemaking, contact Bryan Groce or Richard LaShier, U.S. Environmental Protection Agency, Office of Resource Conservation and Recovery (MC: 5304P), 1200 Pennsylvania Ave., NW., Washington, DC 20460; Phone for Bryan Groce: (703) 308-8750, Phone for Richard LaShier: (703) 308- 8796; or e-mail: groce.bryan@epa.gov, or lashier.rich@epa.gov.

SUPPLEMENTARY INFORMATION:

I. Why is EPA issuing this proposed rule?

EPA is proposing a minor amendment that would change the Federal printing specifications applicable to those entities that print the hazardous waste manifest form. This proposed rule would change only the printing specification in 40 CFR 262.21(f)(4) that currently requires that certain copy distribution notations appearing in the margins of the form must be printed only in red ink. In the “Rules and Regulations” section of this Federal Register, EPA is making this change as a Direct Final rule without a prior proposed rule, because we view this as a non-controversial action and anticipate no adverse comment. We have explained our reasons for this proposed action in the preamble to the Direct Final rule. If we receive no adverse comment on this minor change we are publishing today, we will not take further action on this proposed rule. If, however, we receive adverse comment, we will publish a timely withdrawal in the Federal Register to notify the public that the regulatory amendment in the Direct Final rule will not take effect, and the reasons for such a withdrawal. If the Direct Final rule in the Rules and Regulations section of this Federal Register is withdrawn, all comments will be addressed in a subsequent final action on the proposed rule. We do not intend to institute a second comment period on this action. Any parties interested in commenting must do so at this time.

The regulatory text for this proposal is identical to that for the Direct Final rule published in the Rules and Regulations section of this Federal Register. For further information, please see the information provided in the ADDRESSES section of this Federal Register.

II. Does this action apply to me?

Entities potentially affected by this action are the hazardous waste manifest printers subject to 40 CFR 262.21(f) of the RCRA hazardous waste regulations. States are not affected by the changes to the printing specifications unless they should opt to print manifests. No states are currently printing these forms.

III. Statutory and Executive Order Reviews

For a complete discussion of all the administrative requirements applicable to this action, see the discussion in the “Statutory and Executive Order Reviews” section to the preamble for the Direct Final rule that is published in the Rules and Regulations section of this Federal Register.

A. Regulatory Flexibility Act.

The Regulatory Flexibility Act (RFA) generally requires an agency to prepare a regulatory flexibility analysis of any rule subject to notice and comment rulemaking requirements under the Administrative Procedure Act or any other statute unless the agency certifies that the rule will not have a significant economic impact on a substantial number of small entities. Small entities include small businesses, small organizations, and small governmental jurisdictions.

For purposes of assessing the impacts of today's rule on small entities, a small entity is defined as: (1) A small business as defined by the Small Business Administration's (SBA) regulations at 13 CFR 121.201; (2) a small governmental jurisdiction that is a government of a city, county, town, school district or special district with a population of less than 50,000; and (3) a small organization that is any not-for-profit enterprise which is independently owned and operated and is not dominant in its field.

After considering the economic impacts of today's Direct Final rule on small entities, I certify that this proposed rule will not have a significant economic impact on a substantial number of small entities. This action proposes only a minor change to the manifest printing specifications, and the effect of this proposed change would make it easier for printers to comply with the manifest printing specification by providing additional options. Therefore, this proposed rule would not impose any new burden or costs on printers or users of the manifest, including printers and users who are small entities as defined by the RFA. Since the rule would not have any significant adverse economic impact on small entities, the RFA does not require EPA to perform a regulatory flexibility analysis.

List of Subjects in 40 CFR Part 262

Environmental protection, Exports, Hazardous materials transportation, Hazardous waste, Imports, Labeling, Packaging and containers, Reporting and recordkeeping requirements.

Dated: June 15, 2011.
Mathy Stanislaus,
Assistant Administrator, Office of Solid Waste & Emergency Response.

[FR Doc. 2011-15645 Filed 6-21-11; 8:45 am]

BILLING CODE 6560-50-P